DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be discussing the 2005 accreditation process and the quality enhancement plan, the University's Institutional Research program, the status of Academic Chairs, and Camp Lejeune's Education Consortium. All sessions of the meeting will be open to the public.

DATES: The meeting will be held on Thursday, May 8, 2003, from 8 a.m. to 4 p.m. and on Friday, May 9, 2003, from 8 a.m. to 11:30 a.m.

ADDRESSES: The meeting will be held at Camp Lejeune's Paradise Point Officer Club, the Division Room, 2615 Seth Williams Boulevard, Marine Corps Base Camp Lejeune, North Carolina 28547-2539.

FOR FURTHER INFORMATION CONTACT: Mary Lanzillotta, Executive Secretary, Marine Corps University Board of Visitors, 2076 South Street, Quantico, Virginia 22134, telephone number (703) 784-4037.

Dated: March 31, 2003.
R.E. Vincent II,
Lieutenant Commander, Judge Advocate General's Corps, U.S. Navy, Federal Register Liaison Officer.

[FR Doc. 03-8805 Filed 4-9-03; 8:45 am]

BILLING CODE 3810-FF-P